Executive Order 14018 of February 24, 2021

Revocation of Certain Presidential Actions

By the authority vested in me as President by the Constitution and the laws of the United States of America, it is hereby ordered as follows:

Section 1. Revocation of Presidential Actions. The following Presidential actions are revoked: Executive Order 13772 of February 3, 2017 (Core Principles for Regulating the United States Financial System), Executive Order 13828 of April 10, 2018 (Reducing Poverty in America by Promoting Opportunity and Economic Mobility), Memorandum of January 29, 2020 (Delegation of Certain Authority Under the Federal Service Labor-Management Relations Statute), Executive Order 13924 of May 19, 2020 (Regulatory Relief To Support Economic Recovery), Memorandum of September 2, 2020 (Reviewing Funding to State and Local Government Recipients of Federal Funds That Are Permitting Anarchy, Violence, and Destruction in American Cities), Executive Order 13967 of December 18, 2020 (Promoting Beautiful Federal Civic Architecture), and Executive Order 13979 of January 18, 2021 (Ensuring Democratic Accountability in Agency Rulemaking).

Sec. 2. Implementation. The Director of the Office of Management and Budget and the heads of executive departments and agencies shall promptly consider taking steps to rescind any orders, rules, regulations, guidelines, or policies, or portions thereof, implementing or enforcing the Presidential actions identified in section 1 of this order, as appropriate and consistent with applicable law, including the Administrative Procedure Act, 5 U.S.C. 551 et seq. In addition, any personnel positions, committees, task forces, or other entities established pursuant to the Presidential actions identified in section 1 of this order shall be abolished, as appropriate and consistent with applicable law.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 24, 2021.

[FR Doc. 2021-04281

Filed 2-26-21; 8:45 am]

Billing code 3295-F1-P